DEPARTMENT OF DEFENSE

DOD-2006-OS-0172

Defense Threat Reduction Agency Privacy Act of 1974; Systems of Records

AGENCY: Defense Threat Reduction Agency.

ACTION: Notice to Add a System of Records.

SUMMARY: The Defense Threat Reduction Agency proposes to add a system of records notice to its inventory of record systems subject to the Privacy Act of 1974 (5 U.S.C. 552a), as amended.

DATES: This action will be effective without further notice on September 6, 2006 unless comments are received that would result in a contrary determination.

ADDRESSES: Send comments to the General Counsel, Defense Threat Reduction Agency, 8725 John J. Kingman Road, Fort Belvoir, VA 22060-6201.

FOR FURTHER INFORMATION CONTACT: Ms. Brenda Carter at (703) 767-1771.

SUPPLEMENTARY INFORMATION: The Defense Threat Reduction Agency notices for systems of records subject to the Privacy Act of 1974 (5 U.S.C. 552a), as amended, have been published in the Federal Register and are available from the address above.

The proposed system report, as required by 5 U.S.C. 552a(r) of the Privacy Act of 1974, as amended, was submitted on February 10, 2006, to the House Committee on Government Reform, the Senate Committee on Homeland Security and Governmental Affairs, and the Office of Management and Budget (OMB) pursuant to paragraph 4c of Appendix I to OMB Circular No. A-130, `Federal Agency Responsibilities for Maintaining Records About Individuals,' dated February 8, 1996 (February 20, 1996, 61 FR 6427).

Dated: August 1, 2006.
C.R. Choate,
Alternate OSD Federal Register Liaison Officer, Department of Defense.

HDTRA 021

System name:

Freedom of Information Act and Privacy Act Case Files

System location:

Defense Threat Reduction Agency, Freedom of Information and Privacy Office, 8725 John J. Kingman Road, Fort Belvoir, VA 22060-6201.

Categories of individuals covered by the system:

All individuals who submit Freedom of Information Act (FOIA) and/or Privacy Act (PA) requests or file administrative appeals to the Defense Threat Reduction Agency (DTRA); individuals whose requests and/or records have been referred to DTRA by other Federal agencies; individuals who are the subjects of such requests; and/or the DTRA personnel assigned to handle such requests.

Categories of records in the system:

Records created or compiled in response to FOIA and/or Privacy Act requests. This includes original requests and administrative appeals; responses to such requests and appeals; all related memoranda, correspondence, notes, and other related or supporting documentation; and in some instances, copies of requested records.

Authority for maintenance of the system:

5 U.S.C. 552, The Freedom of Information Act; 5 U.S.C. 552a, The Privacy Act of 1974; DoD 5400.7-R, DoD Freedom of Information Act Program; DoD Directive 5400.11 and DoD 5400.11-R, DoD Privacy Program; DTRA Instruction 5400.7, FOIA Program; and DTRA Instruction 5400.11, Privacy Program.

Purpose(s):

To process access requests under the FOIA and access and amendment requests under the Privacy Act; to administer appeals and litigation arising from such requests; and to assist DTRA in discharging any other responsibilities under the FOIA and the Privacy Act.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To other Federal, state, and local agencies for purposes of affecting necessary coordination relating to the processing of the requests.

The ‘Blanket Routine Uses’ set forth at the beginning of DTRA's compilation of systems of records notices apply to this system.

Policies and practices for storing, retrieving, accessing, retaining, and disposing of records in the system:

Storage:

Paper records in file folders and electronic storage media.

Retrievability:

Records are retrieved by name of the requester; the number assigned to the request; and/or the name of other identifier of DTRA personnel assigned to handle such requests.

Safeguards:

Information in this system is safeguarded in accordance with applicable laws, rules, and policies, including DTRA's automated systems security and access policies. Classified information is appropriately stored in safes and in accordance with other applicable requirements. Records and technical equipment are maintained in buildings with restricted access. The required use of password protection identification features and other system protection methods also restrict access. Access is limited to those officers and employees of the agency who have an official need for access in order to perform their duties.

Retention and disposal:

FOIA and PA cases involving full releases or administrative dispositions are destroyed two years after date of reply. Cases involving full and partial denials are maintained for six years after final FOIA action and five years after final Privacy Act action or three years after final adjudication by courts, whichever is later.

System manager(s) and address:

Chief, Freedom of Information and Privacy Office, Defense Threat Reduction Agency, 8725 John J. Kingman Road, Fort Belvoir, VA 22060-6201.

Notification procedure:

Individuals seeking to determine whether information about themselves is contained in this system of records should submit a written request, to the Defense Threat Reduction Agency, Freedom of Information and Privacy Office, 8725 John J. Kingman Road, Fort Belvoir, VA 22060-6201.

Written requests should contain the full name, current address, telephone number, and date request was submitted.

Record access procedures:

Individuals seeking access to records about themselves contained in this system of records should submit a written request, to the Defense Threat Reduction Agency, Freedom of Information and Privacy Office, 8725 John J. Kingman Road, Fort Belvoir, VA 22060-6201.

Written requests should contain the full name, current address, telephone number, and date request was submitted.

Contesting record procedures:

The Defense Threat Reduction Agency's rules for accessing records is published in 32 CFR part 318 or may be obtained as indicated in the ‘notification procedure’.

Record source categories:

Data is provided by the record source, the FOIA/Privacy Act staff; and other agencies or entities that have referred requests to DTRA.

Exemptions claimed for the system:

During the course of a FOIA and Privacy Act action, exempt materials from other systems of records may in turn become part of the case records in this system. To the extent that copies of exempt records from those other systems of records are entered into this FOIA or Privacy Act case record, DTRA hereby claims the same exemptions for the records from those other systems that are entered into this system, as claimed for the original primary systems of records which they are a part.

An exemption rule for this system has been promulgated in accordance with requirements of 5 U.S.C. 553(b)(1), (2), and (3), (c) and (e) and published in 32 CFR part 318. For additional information, contact the system manager.

[FR Doc. 06-6722 Filed 8-4-06; 8:45 am]

BILLING CODE 5001-06-M